DEPARTMENT OF HEALTH AND HUMAN SERVICES

Administration for Community Living

Agency Information Collection Activities: Proposed Collection; Public Comment Request; of the One Protection and Advocacy Annual Program Performance Report OMB #0985-0063

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice. This IC Revision solicits comments on the information collection requirements relating to the One Protection and Advocacy Annual Program Performance Report [OMB #0985-0063].

DATES: Comments on the collection of information must be submitted electronically by 11:59 p.m. (EST) or postmarked by April 11, 2022.

ADDRESSES: Submit electronic comments on the collection of information to: Ophelia McLain, ((202) 795-7401 ophelia.mclain@acl.hhs.gov. Submit written comments on the collection of information to Administration for Community Living, 330 C Street SW, Washington, DC 20201, Attention: Ophelia McLain.

FOR FURTHER INFORMATION CONTACT: Ophelia McLain, (202) 795-7401 ophelia.mclain@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

This is a revision to a currently approved information collection (IC), the Department replaced four existing Protection and Advocacy Program Performance Reports under one IC in March 2019. This is termed One-PPR. The four annual reports included the following: (1) Developmental Disabilities Protection and Advocacy Systems Program Performance Report, (2) Protection and Advocacy for Assistive Technology (PAAT) Program Performance Report; (3) Protection and Advocacy Voting Access Annual Report (Help America Vote Act) (HAVA); and (4) Protection and Advocacy for Traumatic Brain Injury (PATBI) Program Performance Report. This revision includes data elements based on funding from the Centers for Disease Control and Prevention to increase access to COVID-19 vaccines (ACCESS), and expand the Public Health Workforce (PHWF), provided under Section 2501 of the American Rescue Plan Act of 2021 (Pub. L. 117-2). Each P&A submits one report (One-PPR) for four funding sources, administered by ACL. As with each funding source, there is a reporting requirement. In an effort to reduce the burden of the P&As, each will continue to submit one report for all funding sources; however, as of FY2022, the report will incorporate the activities undertaken for the ACCESS and PHWF funding, by creating a new goal or priority in Part 2C, and adding the narrative in Part 2.C.4 (Rationale for Adding/Changing Goal) or 2.C.5 (Rationale for Adding/Changing Priority). The guidance document provides a description of the data elements to be included in this section of the One-PPR template.

State Protection and Advocacy (P&A) Systems in each State and Territory provide individual legal advocacy, systemic advocacy, monitoring and investigations to protect and advance the rights of people with developmental disabilities, using funding administered by the Administration on Disabilities (AoD), Administration for Community Living, HHS. To meet statutory reporting requirements, P&As use these forms for submitting annual reports.

The PPRs are reviewed by federal staff for compliance and outcomes. Information in the reports is analyzed to create a national profile of programmatic compliance, outcomes, and goals and priorities for P&A Systems for tracking accomplishments against goals and to formulate areas of technical assistance related to compliance with Federal requirements. Information collected informs AoD of trends in P&A advocacy, facilitate collaboration with other federally funded entities, and identify best practices for the efficient use of federal funds. Additionally, the information is used to provide a national perspective on where the program is going (prospective view), and to provide a gage for program accomplishments against program objectives for purposes of identifying continuing challenges and formulating technical assistance and management support provided to P&A systems.

The proposed data collection tools may be found on the ACL website for review at: https://www.acl.gov/about-acl/public-input.

Estimated Program Burden

The following table summarizes the burden hour estimate for this information collection:

Number of states | Number of responses per state | Average burden hours per state | Total hours
57 | 1 | 144 | 8208

The estimates of annual burden to the States vary in accordance with the size, program complexity, and technological capacity of the States. The annual burden on this form is estimated to be 144 hours, which is an increase of 16 hours from the previous instrument.

PPR | Annual hours estimate (based on previous OMB burden estimates)
PADD | 90
PAAT | 16
PATBI | 16
HAVA | 20
ACCESS | 10
PHWF | 6
ONE PPR | 144

Dated: February 3, 2022.
Alison Barkoff,
Principal Deputy Administrator.

[FR Doc. 2022-02577 Filed 2-7-22; 8:45 am]

BILLING CODE 4154-01-P